OFFICE OF PERSONNEL MANAGEMENT

5 CFR Part 532

[Docket ID: OPM-2023-0018]

RIN 3206-AO61

Prevailing Rate Systems; Redefinition of the Northeastern Arizona and Utah Appropriated Fund Federal Wage System Wage Areas

AGENCY: Office of Personnel Management.

ACTION: Final rule.

SUMMARY: The Office of Personnel Management (OPM) is issuing a final rule to redefine the geographic boundaries of the Northeastern Arizona and Utah appropriated fund Federal Wage System (FWS) wage areas for pay-setting purposes. The final rule will redefine Washington County, UT, and several National Parks portions of Garfield, Grand, Iron, San Juan, and Wayne Counties, UT, to the Northeastern Arizona wage area.

DATES:

Effective date: This regulation is effective December 15, 2023.

Applicability date: This change applies on the first day of the first applicable pay period beginning on or after December 15, 2023.

FOR FURTHER INFORMATION CONTACT: Ana Paunoiu, by telephone at (202) 606-2858 or by email at pay-leave-policy@opm.gov.

SUPPLEMENTARY INFORMATION: On August 15, 2023, OPM issued a proposed rule (88 FR 55423) to redefine the geographic boundaries of the Northeastern Arizona and Utah appropriated fund FWS wage areas. The rulemaking proposed to redefine Washington County, UT; and the Bryce Canyon, Capitol Reef, and Canyonlands National Parks portions of Garfield County, UT; the Arches and Canyonlands National Parks portions of Grand County, UT; the Cedar Breaks National Monument and Zion National Park portions of Iron County, UT; the Canyonlands National Park portion of San Juan County, UT; and the Capitol Reef and Canyonlands National Parks portions of Wayne County from the Utah wage area to the Northeastern Arizona wage area. The Federal Prevailing Rate Advisory Committee, the national labor-management committee responsible for advising OPM on matters concerning the pay of FWS employees, reviewed and recommended these changes by consensus.

The 30-day comment period ended on September 15, 2023. OPM received one public comment expressing general concerns about economic growth around National Parks that is outside the scope of this rulemaking. Therefore, this final rule adopts the proposed rule at 88 FR 55423 without change.

Expected Impact of This Rule

Section 5343 of title 5, U.S. Code, provides OPM with the authority and responsibility to define the boundaries of FWS wage areas. Any changes in wage area boundaries can have the long-term effect of increasing pay for FWS employees in affected locations. OPM expects this rule to impact approximately 100 FWS employees. Of the changes this rule implements, the most significate change in terms of the number of impacted employees would be in Washington County, UT, where approximately 32 FWS employees would be affected. Considering the small number of employees affected, OPM does not anticipate this rule will have a substantial impact on the local economies or a large impact in the local labor markets. However, OPM will continue to study the implications of such impacts in this or future rules as needed, as this and future changes in wage area definitions may impact higher volumes of employees in geographical areas and could rise to the level of impacting local labor markets.

Regulatory Review

Executive Orders 13563, 12866, and 14094 direct agencies to assess all costs and benefits of available regulatory alternatives and, if regulation is necessary, to select regulatory approaches that maximize net benefits (including potential economic, environmental, public health and safety effects, distributive impacts, and equity). This rule is not a “significant regulatory action” under the provisions of Executive Order 14094 and, therefore, was not reviewed by OMB.

Regulatory Flexibility Act

The Director of OPM certifies that this rule will not have a significant economic impact on a substantial number of small entities.

Federalism

OPM has examined this rule in accordance with Executive Order 13132, Federalism, and have determined that this rule will not have any negative impact on the rights, roles and responsibilities of State, local, or tribal governments.

Civil Justice Reform

This rule meets the applicable standard set forth in Executive Order 12988.

Unfunded Mandates Act of 1995

This rule will not result in the expenditure by State, local, and tribal governments, in the aggregate, or by the private sector, of $100 million or more in any year and it will not significantly or uniquely affect small governments. Therefore, no actions were deemed necessary under the provisions of the Unfunded Mandates Reform Act of 1995.

Congressional Review Act

Subtitle E of the Small Business Regulatory Enforcement Fairness Act of 1996 (known as the Congressional Review Act or CRA) (5 U.S.C. 801 et seq.) requires most final rules to be submitted to Congress before taking effect. OPM will submit to Congress and the Comptroller General of the United States a report regarding the issuance of this rule before its effective date. The Office of Information and Regulatory Affairs in the Office of Management and Budget has determined that this rule is not a major rule as defined by the CRA (5 U.S.C. 804).

Paperwork Reduction Act

This rule does not impose any reporting or record-keeping requirements subject to the Paperwork Reduction Act.

List of Subjects in 5 CFR Part 532

Administrative practice and procedure, Freedom of information, Government employees, Reporting and recordkeeping requirements, Wages.

Office of Personnel Management.
Kayyonne Marston,
Federal Register Liaison.

Accordingly, OPM amends 5 CFR part 532 as follows:

PART 532—PREVAILING RATE SYSTEMS

1. The authority citation for part 532 continues to read as follows:

Authority: 5 U.S.C. 5343, 5346; § 532.707 also issued under 5 U.S.C. 552.

2. In Appendix C to subpart B, amend the table by revising the wage area listings for the States of Arizona and Utah to read as follows:

Appendix C to Subpart B of Part 532—Appropriated Fund Wage and Survey Areas

Definitions of Wage Areas and Wage Area Survey Areas

* * * * *

ARIZONA

Northeastern Arizona

Survey Area

Arizona:

Apache

Coconino

Navajo

New Mexico:

McKinley

San Juan

Area of Application. Survey area plus:

Colorado:

Dolores

Gunnison (Only includes the Curecanti National Recreation Area portion)

La Plata

Montezuma

Montrose

Ouray

San Juan

San Miguel

Utah:

Garfield (Only includes the Bryce Canyon, Capitol Reef, and Canyonlands National Parks portions)

Grand (Only includes the Arches and Canyonlands National Parks portions)

Iron (Only includes the Cedar Breaks National Monument and Zion National Park portions)

Kane

San Juan

Washington

Wayne (Only includes the Capitol Reef and Canyonlands National Parks portions)

Phoenix

Survey Area

Arizona:

Gila

Maricopa

Area of Application. Survey area plus:

Arizona:

Pinal

Yavapai

Tucson

Survey Area

Arizona:

Pima

Area of Application. Survey area plus:

Arizona:

Cochise

Graham

Greenlee

Santa Cruz

* * * * *

UTAH

Utah

Survey Area

Utah:

Box Elder

Davis

Salt Lake

Tooele

Utah

Weber

Area of Application. Survey area plus:

Utah:

Beaver

Cache

Carbon

Daggett

Duchesne

Emery

Garfield (Does not include the Bryce Canyon, Capitol Reef, and Canyonlands National Parks portions)

Grand (Does not include the Arches and Canyonlands National Parks portions)

Iron (Does not include the Cedar Breaks National Monument and Zion National Park portions)

Juab

Millard

Morgan

Piute

Rich

Sevier

Sanpete

Summit

Uintah

Wasatch

Wayne (Does not include the Capitol Reef and Canyonlands National Parks portions)

* * * * *

[FR Doc. 2023-25155 Filed 11-14-23; 8:45 am]

BILLING CODE 6325-39-P